SECURITIES AND EXCHANGE COMMISSION

[File No. 500-1]

In the Matter of China Fruits Corporation, Order of Suspension of Trading

September 1, 2015.

It appears to the Securities and Exchange Commission (the “Commission”) that there is a lack of current and accurate information concerning the securities of China Fruits Corporation (“CHFR”) because, among other things, of questions regarding the accuracy and completeness of CHFR's representations to investors and prospective investors in CHFR's public filings with the Commission and CHFR's publicly-available press releases and other public statements.

In particular, CHFR is delinquent in filing its Form 10-Q quarterly report for its second quarter ended June 30, 2015, and CHFR does not appear to have publicly responded to news reports concerning CHFR relating to, among other things, (i) the whereabouts of Mr. Quan Long Chen, CHFR's current or former Chief Executive Officer, President, sole director, and controlling shareholder; (ii) the status of any investor funds that may have been collected by or through Mr. Chen in connection with CHFR; and, (iii) the financial condition of the company, including the status of CHFR's business operations.

Based on CHFR's amended Form 10-K/A annual report filed for its fiscal year ended December 31, 2014, CHFR is a Nevada corporation based in Beijing, People's Republic of China. The company's common stock is quoted on OTC Link operated by OTC Markets Group, Inc. under the symbol “CHFR.” As of August 20, 2015, the company's common stock had six market makers and was eligible for the “piggyback” exception of Rule 15c2-11(f)(3).

The Commission is of the opinion that the public interest and the protection of investors require a suspension of trading in the securities of CHFR.

Therefore, it is ordered, pursuant to Section 12(k) of the Securities Exchange Act of 1934, that trading in the securities of CHFR is suspended for the period from 9:30 a.m. EDT on September 1, 2015, through 11:59 p.m. EDT on September 15, 2015.

By the Commission.
Jill M. Peterson,
Assistant Secretary.

[FR Doc. 2015-21975 Filed 9-1-15; 11:15 am]

BILLING CODE 8011-01-P